DEPARTMENT OF COMMERCE

National Oceanic and Atmospheric Administration

[I.D. 051800G]

Marine Mammals; File No. 675-1563

AGENCY: National Marine Fisheries Service (NMFS), National Oceanic and Atmospheric Administration (NOAA), Commerce.

ACTION: Issuance of permit.

SUMMARY: Notice is hereby given that Dr. Graham A.J. Worthy, (Principal Investigator), Department of Marine Biology, Texas A&M University, 5001 Avenue U, Suite 105, Galveston, Texas 77551, has been issued a permit to take Northern fur seals (Callorhinus ursinus) for purposes of scientific research.

ADDRESSES: The permit and related documents are available for review upon written request or by appointment in the following office(s):

Permits and Documentation Division, Office of Protected Resources, NMFS, 1315 East-West Highway, Room 13705, Silver Spring, MD 20910 (301/713-2289); and

Regional Administrator, Alaska Region, NMFS, P.O. Box 21668, Juneau, AK 99802-1668 (907/586-7221);

FOR FURTHER INFORMATION CONTACT: Ruth Johnson or Simona Roberts, 301/713-2289.

SUPPLEMENTARY INFORMATION: On February 11, 2000, notice was published in the Federal Register (65 FR 6997) that a request for a scientific research permit to take fur seals had been submitted by the above-named individual. The requested permit has been issued under the authority of the Marine Mammal Protection Act of 1972, as amended (16 U.S.C. 1361 et seq.), the Regulations Governing the Taking and Importing of Marine Mammals (50 CFR part 216), and the Fur Seal Act of 1966, as amended (16 U.S.C. 1151 et seq.).

Dated: June 6, 2000.
Ann D. Terbush,
Chief, Permits and Documentation Division, Office of Protected Resources, National Marine Fisheries Service.

[FR Doc. 00-14777 Filed 6-9-00; 8:45 am]

BILLING CODE 3510-22-F